DEPARTMENT OF COMMERCE

International Trade Administration

(A-533-824)

Certain Polyethylene Terephthalate Film, Sheet and Strip from India: Extension of Time Limit for Final Results of Antidumping Duty Administrative Review

AGENCY: Import Administration, International Trade Administration, Department of Commerce.

EFFECTIVE DATE: December 14, 2004.

FOR FURTHER INFORMATION CONTACT: Jeff Pedersen or Drew Jackson, AD/CVD Operations, Office 4, Import Administration, International Trade Administration, U.S. Department of Commerce, 14th Street and Constitution Avenue, NW, Washington, DC 20230; telephone (202) 482-2769 or (202) 482-4406, respectively.

SUPPLEMENTARY INFORMATION:

Background

On August 22, 2003, the Department of Commerce (the Department) published in the Federal Register a notice of initiation of an administrative review of the antidumping duty order on certain polyethylene terephthalate film, sheet and strip from India, covering the period December 21, 2001 through June 30, 2003. See Initiation of Antidumping and Countervailing Duty Administrative Reviews and Request for Revocation in Part, 68 FR 50750.

On August 12, 2004, the Department published in the Federal Register the preliminary results of review. See Certain Polyethylene Terephthalate Film, Sheet and Strip From India: Preliminary Results and Rescission in Part of Antidumping Duty Administrative Review, 69 FR 49872 (August 12, 2004). The final results of review are currently due no later than December 10, 2004.

Statutory Time Limits

Section 751(a)(3)(A) of the Tariff Act of 1930, as amended (the Act), requires the Department to make a preliminary determination in an administrative review within 245 days after the last day of the anniversary month of an order for which a review is requested and a final determination within 120 days after the date on which the preliminary determination is published. However, if it is not practicable to complete the review within these time periods, section 751(a)(3)(A) of the Act allows the Department to extend these deadlines to a maximum of 365 days and 180 days (or 300 days if the Department does not extend the time limit for the preliminary determination), respectively.

Extension of Time Limit for Final Results of Review

We have determined that it is not practicable to complete the final results of this review within the original time limit because needs additional time to consider a complex issue relating to the U.S. price adjustment for countervailing duties imposed to offset export subsidies. Therefore, the Department is extending the time limit for completion of the final results by 60 days. We intend to issue the final results of review no later than February 8, 2005.

This extension is in accordance with section 751(a)(3)(A) of the Act.

Dated: December 7, 2004.
Barbara E. Tillman,
Acting Deputy Assistant Secretary for Import Administration.

[FR Doc. E4-3638 Filed 12-13-04; 8:45 am]

BILLING CODE 3510-DS-S